DEPARTMENT OF COMMERCE

National Oceanic and Atmospheric Administration

50 CFR Part 660

[Docket No. 060427113-6113-01; I.D.092006D]

Fisheries Off West Coast States and in the Western Pacific; West Coast Salmon Fisheries; Inseason Action #4 - Adjustments of the Recreational Fishery from U.S.-Canada Border, to Cape Falcon, Oregon

AGENCY: National Marine Fisheries Service (NMFS), National Oceanic and Atmospheric Administration (NOAA), Commerce.

ACTION: Modification of fishing seasons; request for comments.

SUMMARY: NMFS announced that the recreational fishery from the U.S.-Canada Border, to Cape Falcon, OR was modified, effective Friday, August 11, 2006, in the following subareas: the La Push, Westport, and Columbia River Subarea's were open seven days per week, with a modified daily bag limit as follows: All salmon, two fish per day. The Neah Bay Subarea was open seven days per week with a modified daily bag limit as follows: All salmon, two fish per day, except no chum retention through September 17, 2006. All other restrictions remained in effect as announced for 2006 Ocean Salmon Fisheries. This action was necessary to conform to the 2006 management goals, and the intended effect was to allow the fishery to operate within the seasons and quotas specified in the 2006 annual management measures.

DATES: The modification of fishing days and daily bag limit was effective 0001 hours local time (l.t.), Friday, August 11, 2006, in the La Push, Westport, and Neah Bay Subarea's until the Chinook quotas or coho quotas are taken, or 2359 hours l.t., September 17, 2005, whichever is earlier. Effective 0001 hours local time (l.t.), Friday, August 11, 2006, in the Columbia River Subarea until the Chinook quota or coho quota is taken, or 2359 hours l.t., September 30, 2006, whichever is earlier; after which the fisheries remained closed until opened through an additional inseason action for the west coast salmon fisheries, which would be published in the Federal Register, or until the effective date of the next scheduled open period announced in the 2006 annual management measures.

Comments will be accepted through October 12, 2006.

ADDRESSES: Comments on these actions must be mailed to D. Robert Lohn, Regional Administrator, Northwest Region, NMFS, NOAA, 7600 Sand Point Way N.E., Bldg. 1, Seattle, WA 98115-0070; or faxed to 206-526-6376. Comments can also be submitted via e-mail at the 2006salmonIA4.nwr@noaa.gov address, or through the internet at the Federal eRulemaking Portal: http://www.regulations.gov. Follow the instructions for submitting comments, and include the docket number 060427113-6113-01 and/or I.D. 092006D] in the subject line of the message. Information relevant to this document is available for public review during business hours at the Office of the Regional Administrator, Northwest Region, NMFS.

FOR FURTHER INFORMATION CONTACT: Sarah McAvinchey, 206-526-4323.

SUPPLEMENTARY INFORMATION: In the 2006 annual management measures for ocean salmon fisheries (71 FR 26254, May 4, 2006), NMFS announced the recreational fisheries: the area from the U.S.-Canada Border to Cape Alava, WA (Neah Bay Subarea) opened June 30 through the earlier of September 17 or a 7,058-marked coho subarea quota with a subarea guideline of 3,200 Chinook; the area from Cape Alava to Queets River, WA (La Push Subarea) opened June 30 through the earlier of September 17 or a 1,889-marked coho subarea quota with a subarea guideline of 1,300 Chinook; the area from Queets River to Leadbetter Point, WA (Westport Subarea) opened July 3 through the earlier of September 17 or a 27,603-marked coho subarea quota with a subarea guideline of 18,100 Chinook; the area from Leadbetter Point, WA to Cape Falcon, OR (Columbia River Subarea) opened July 3 through the earlier of September 30 or a 36,600 marked coho subarea quota with a subarea guideline of 8,300 Chinook. The Neah Bay and La Push Subareas were open Tuesday through Saturday, and the Westport and Columbia River Subareas were open Sunday through Thursday. All subareas were restricted to a Chinook minimum size limit of 24 inches (61.0 cm) total length. In addition, the subarea bag limits were for all salmon, two fish per day, no more than one of which may be a Chinook, with all retained coho required to have a healed adipose fin clip, and the Neah Bay subarea had a no chum retention requirement from August 1 through September 17.

On July 24, 2006, the RA consulted with representatives of the Pacific Fishery Management Council, Washington Department of Fish and Wildlife, and Oregon Department of Fish and Wildlife by conference call. Information related to catch to date, the Chinook and coho catch rates, and effort data indicated that the catch was less than anticipated preseason and that provisions designed to slow the catch of Chinook could be modified, by relaxing the bag limits and fishing days per calendar provisions. As a result, on July 24, 2006, the states recommended, and the RA concurred, that effective Friday, August 11, 2006, the La Push, Westport, and Columbia River Subarea's would be open seven days per week, with a modified daily bag limit as follows: All salmon, two fish per day. The RA also concurred that the Neah Bay Subarea would be open seven days per week with a modified daily bag limit as follows: All salmon, two fish per day, except no chum retention through September 17, 2006. All other restrictions remained in effect as announced for 2006 Ocean Salmon Fisheries. These actions were necessary to conform to the 2006 management goals, and the intended effect was to allow the fishery to operate within the seasons and quotas specified in the 2006 annual management measures. Modification in recreational bag limits and recreational fishing days per calendar week is authorized by regulations at 50 CFR 660.409(b)(1)(iii).

The Regional Administrator, (RA) determined that the best available information indicated that the catch and effort data, and projections, supported the above inseason actions recommended by the states. The states manage the fisheries in state waters adjacent to the areas of the U.S. exclusive economic zone in accordance with these Federal actions. As provided by the inseason notice procedures of 50 CFR 660.411, actual notice to fishers of the already described regulatory actions were given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions were provided to fishers through telephone hotline and radio notification. These actions comply with the requirements of the annual management measures for ocean salmon fisheries (71 FR 26254, May 4, 2006), the West Coast Salmon Plan, and regulations implementing the West Coast Salmon Plan (50 CFR 660.409 and 660.411). Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily maintaining two restrictions. These actions are authorized by 50 CFR 660.409 and 660.411 and are exempt from review under Executive Order 12866.

Authority: 16 U.S.C. 1801 et seq.

Dated: September 22, 2006.
Alan D. Risenhoover,
Director, Office of Sustainable Fisheries, National Marine Fisheries Service.

[FR Doc. E6-15870 Filed 9-26-06; 8:45 am]

BILLING CODE 3510-22-S